FEDERAL LABOR RELATIONS AUTHORITY

Senior Executive Service Performance Review Board

AGENCY: Federal Labor Relations Authority.

ACTION: Notice.

SUMMARY: The Federal Labor Relations Authority (FLRA) publishes the names of the persons selected to serve on its SES Performance Review Board (PRB). This notice supersedes all previous notices of the PRB membership.

DATES: October 22, 2021.

ADDRESSES: Written comments about this notice can be mailed to the Case Intake and Publication Office, Federal Labor Relations Authority, 1400 K Street NW, Washington, DC 20424.

FOR FURTHER INFORMATION CONTACT: Michael Jeffries, Executive Director, Federal Labor Relations Authority, 1400 K St. NW, Washington, DC 20424, (202) 218-7982, mjeffries@flra.gov.

SUPPLEMENTARY INFORMATION: Section 4314(c) of Title 5, U.S.C. requires each agency to establish, in accordance with regulations prescribed by the Office of Personnel Management, one or more PRBs. The PRB shall review and evaluate the initial appraisal of a senior executive's performance by the supervisor, along with any response by the senior executive, and make recommendations to the final rating authority relative to the performance of the senior executive.

The persons named below have been selected to serve on the FLRA's PRB.

PRB Chairman:

Michael Jeffries, Executive Director, FLRA, and PRB Chairman

PRB Members:

Kimberly Moseley, Executive Director, Federal Service Impasses Panel

Charlotte Dye, Deputy General Counsel, FLRA

Timothy Curry, Deputy Associate Director, Accountability and Workforce Relations, Employee Services, Office of Personnel Management

Paula Chandler, Director, Human Resources Division, FLRA (Ex Officio).

Dated: October 19, 2021.
Rebecca J. Osborne,
Federal Register Liaison, FLRA.

[FR Doc. 2021-23066 Filed 10-21-21; 8:45 am]

BILLING CODE 7627-01-P